NATIONAL LABOR RELATIONS BOARD

Amendment of Statement of Organization and Functions; Restructuring of National Labor Relations Board's Field Organization

AGENCY: National Labor Relations Board.

ACTION: Notice of administrative change in status of the Des Moines, Iowa Resident Office (Region 18) of the National Labor Relations Board, which will be closed and the area will be served by agents working from other locations.

SUMMARY: The National Labor Relations Board is closing its Des Moines, Iowa Resident Office because it has determined that closing the office and serving the area with agents working at other locations, will result in significant savings while continuing to effectively serve the area currently served by this office.

DATES: Effective Date: The change announced above with respect to the Des Moines, Iowa office will be effective November 30, 2015.

FOR FURTHER INFORMATION CONTACT: Gary Shinners, Executive Secretary, 1015 Half Street SE., Washington, DC 20570. Telephone: (202) 273-1067.

SUPPLEMENTARY INFORMATION: The National Labor Relations Board has decided to close its Des Moines, Iowa Resident Office. This change is prompted by an examination of the staffing, caseloads, and rental and operating costs for the Des Moines office which has been occupied by only one investigator for more than four years. One of the two other non-investigative staff members assigned to the Des Moines office has transferred to another National Labor Board office and another has retired. Because of the declining case intake in this area, it is not expected that additional employees would be added to this office in the foreseeable future. Employees from the Agency's Minneapolis and Milwaukee offices will continue to perform the same work the sole investigator performs now, and will travel to locations in Iowa on an as-needed basis. This revision is nonsubstantive or merely procedural in nature. The Board expects no adverse impact on the quality of casehandling as a result of the office closure.

Region 18, which handles cases arising in Minnesota, Wisconsin, Iowa, and North and South Dakota, is headed by a Regional Director, who works in the Minneapolis, Minnesota Regional office and has full authority for the processing of both unfair labor practice and representation cases in that area. Currently, the other employees in this Region work in Milwaukee, Wisconsin and Des Moines, Iowa. Under this proposal, all offices except the Des Moines office will continue to be open. The geographical area covered by the Region will not be changed.

Since May 2015, the NLRB has solicited and received feedback on the proposed closure of the Des Moines, Iowa office. The decision to close this office and restructure the Agency's operations in the manner set forth here was informed by comments from stakeholders. Because this is a general notice that is related to the organization of the NLRB, it is not a regulation or rule subject to Executive Order 12866.

Concurrent with this Notice, the NLRB is revising its Statement of Organization and Functions, among other things, to delete reference to the Des Moines, Iowa office as a place where persons can obtain service in Region 18. The Appendix to Subpart B—Description of Field Organization, which includes a complete listing of the Regional and Subregional Offices and the geographic areas served by each was last published in full at 53 FR 10305-10308 (March 30, 1988). Since that time, the Board has published numerous individual amendments to Subpart B, including 65 FR 53228, 65 FR 64723, 69 FR 31143, 69 FR 74541, 77 FR 72886, 78 FR 44602, 79 FR 69136, and 79 FR 72707. Accordingly, the Board is now publishing the Appendix to Subpart B—Description of Field Organization in its entirety because of the number of changes made to the boundaries and the age of the last publication.

Pursuant to the change set forth here, the National Labor Relations Board is amending its Statement of Organization and Functions as follows:

Part 201—Description of Organization

Subpart B—Description of Field Organization

(A) Sec. 203 is amended to read as follows:

Sec. 203 Regional Offices. There are 26 Regional Offices through which the Board conducts its business. Certain of the Regions have Subregional Offices or Resident Offices in addition to the central Regional Office. The areas constituting the Regions and the location of the Regional, Subregional, and Resident Offices are set forth in an appendix hereto. Each Regional Office staff is headed by a Regional Director appointed by the Board on the recommendation of the General Counsel and includes a Regional Attorney, Assistant to the Regional Director, field attorneys, field examiners, and clerical staff. Each Subregional Office is headed by an officer in charge appointed in the same manner as the Regional Directors. Each Resident Office is headed by a Resident Officer.

(B) The Appendix to Subpart B is amended to read as follows:

Appendix—Regional and Subregional Offices

Alphabetical list of States showing location in relation to Regions and Subregions. (Note that respective Region number follows Subregion number to facilitate locating areas serviced.)

Alabama | 10, 15
Alaska | 19
Arizona | 28
Arkansas | 15, 16, SR-26 (15)
California | 20, 21, 31, 32
Colorado | 27
Connecticut | SR-34 (1)
Delaware | 4, 5
District of Columbia | 5
Florida | 12, 15
Georgia | 10, 12
Hawaii | SR-37 (20)
Idaho | 19, 27
Illinois | 13, 14, SR-33 (25)
Indiana | 9, 13, 25
Iowa | SR-17 (14), 18, SR-33 (25)
Kansas | SR-17 (14)
Kentucky | 9, 10, 25
Louisiana | 15
Maine | 1
Maryland | 5, 6
Massachusetts | 1
Michigan | 7, SR-30 (18)
Minnesota | 18
Mississippi | 15, SR-26 (15)
Missouri | 14, SR-17 (14), SR-26 (15)
Montana | 19, 27
Nebraska | SR-17 (14), 27
Nevada | 28, 32
New Hampshire | 1
New Jersey | 4, 22
New Mexico | 28
New York | 2, 3, 29
North Carolina | SR-11 (10)
North Dakota | 18
Ohio | 8, 9
Oklahoma | SR-17 (14)
Oregon | SR-36 (19)
Pennsylvania | 4, 5, 6
Rhode Island | 1
South Carolina | SR-11 (10)
South Dakota | 18
Tennessee | 10, SR-11 (10), SR-26 (15)
Texas | 16, 28
Utah | 27
Vermont | 1, 3
Virginia | 5, 6, SR-11 (10)
Washington | 19, SR-36 (19)
West Virginia | 5, 6, 9, SR-11 (10)
Wisconsin | 18, SR-30 (18)
Wyoming | 27
Puerto Rico | SR-24 (12)
U.S. Virgin Islands | SR-24 (12)

Areas Served By Regional and Subregional Offices

(Listed in numerical order except that Subregions appear directly under respective Regions. Addresses and phone numbers of the field offices can be found on the NLRB Web site at https://www.nlrb.gov/who-we-are/regional-offices).

Region 1. Boston, Massachusetts. Services Maine, New Hampshire, Massachusetts, and Rhode Island; in Vermont, services Caledonia, Essex, and Orleans Counties.

Subregion 34. Hartford, Connecticut. Services Connecticut.

Region 2. New York, New York. In New York, services the boroughs of Manhattan and the Bronx in New York City; and Orange, Putnam, Rockland, and Westchester Counties.

Region 3. Buffalo, New York. Services all New York State Counties except the New York City metropolitan area counties serviced by Regions 2 and 29; in Vermont, services Addison, Bennington, Chittenden, Franklin, Grand Isle, Lamoille, Orange, Rutland, Washington, Windham, and Windsor Counties. Persons may also obtain service at the Resident Office located in Albany, New York.

Region 4. Philadelphia, Pennsylvania. In Pennsylvania, services Berks, Bucks, Burlington, Carbon, Chester, Dauphin, Delaware, Juniata, Lackawanna, Lancaster, Lebanon, Lehigh, Luzerne, Monroe, Montgomery, Northampton, Perry, Philadelphia, Pike, Schuylkill, Susquehanna, Wayne, and Wyoming Counties; in New Jersey, services Atlantic, Camden, Cape May, Cumberland, Gloucester, Ocean, and Salem Counties; in Delaware services New Castle County.

Region 5. Baltimore, Maryland. Services the District of Columbia; in Maryland, services all counties with the exception of Allegany and Garrett Counties; in Delaware, services Kent and Sussex Counties; in Pennsylvania, services Adams, Cumberland, Franklin, and York Counties; in Virginia, services Accomack, Albemarle, Amelia, Arlington, Augusta, Brunswick, Buckingham, Caroline, Charles City, Chesterfield, Clarke, Culpeper, Cumberland, Dinwiddie, Essex, Fairfax, Fauquier, Fluvanna, Frederick, Gloucester, Goochland, Greene, Greensville, Hanover, Henrico, Isle of Wight, James City, King and Queen, King George, King William, Lancaster, Loudoun, Louisa, Lunenberg, Madison, Mathews, Middlesex, Nelson, New Kent, Northampton, Northumberland, Nottoway, Orange, Page, Powhatan, Prince Edward, Prince George, Prince William, Rappahannock, Richmond, Rockingham, Shenandoah, Southampton, Spotsylvania, Stafford, Surry, Sussex, Warren, Westmoreland, and York Counties, and the independently incorporated Virginia cities not part of, but located within or adjacent to, the territory defined by these Virginia counties; and in West Virginia, services Berkeley, Hampshire, Jefferson, and Morgan Counties. Persons may also obtain service at the Resident Office located in Washington, DC.

Region 6. Pittsburgh, Pennsylvania. In Pennsylvania, services Allegheny, Armstrong, Beaver, Bedford, Blair, Bradford, Butler, Cambria, Cameron, Centre, Clarion, Clearfield, Clinton, Columbia, Crawford, Elk, Erie, Fayette, Forest, Fulton, Greene, Huntingdon, Indiana, Jefferson, Lawrence, Lycoming, McKean, Mercer, Mifflin, Montour, Northumberland, Potter, Snyder, Somerset, Sullivan, Tioga, Union, Venango, Warren, Washington, and Westmoreland Counties; in Maryland, services Allegany and Garrett Counties; in Virginia, services Highland County; and in West Virginia, services Barbour, Braxton, Brooke, Calhoun, Clay, Doddridge, Fayette, Gilmer, Grant, Hancock, Hardy, Harrison, Lewis, Marion, Marshall, Mineral, Monongalia, Nicholas, Ohio, Pendleton, Pleasants, Pocahontas, Preston, Raleigh, Randolph, Ritchie, Taylor, Tucker, Tyler, Upshur, Webster, Wetzel, Wirt, Wood, and Wyoming Counties.

Region 7. Detroit, Michigan. In Michigan, services Alcona, Allegan, Alpena, Antrim, Arenac, Barry, Bay, Benzie, Berrien, Branch, Calhoun, Cass, Charlevoix, Cheboygan, Chippewa, Clare, Clinton, Crawford, Eaton, Emmet, Genesee, Gladwin, Grand Traverse, Gratiot, Hillsdale, Huron, Ingham, Ionia, Iosco, Isabella, Jackson, Kalamazoo, Kalkaska, Kent, Lake, Lapeer, Leelanau, Lenawee, Livingston, Luce, Mackinac, Macomb, Manistee, Mason, Mecosta, Midland, Missaukee, Monroe, Montcalm, Montmorency, Muskegon, Newaygo, Oakland, Oceana, Ogemaw, Osceola, Oscoda, Otsego, Ottawa, Presque Isle, Roscommon, Saginaw, St. Clair, St. Joseph, Sanilac, Schoolcraft, Shiawassee, Tuscola, Van Buren, Washtenaw, Wayne, and Wexford Counties. Persons may also obtain service at the Resident Office located in Grand Rapids, Michigan.

Region 8. Cleveland, Ohio. In Ohio, services Allen, Ashland, Ashtabula, Auglaize, Belmont, Carroll, Columbiana, Coshocton, Crawford, Cuyahoga, Defiance, Delaware, Erie, Fulton, Geauga, Guernsey, Hancock, Hardin, Harrison, Henry, Holmes, Huron, Jefferson, Knox, Lake, Licking, Logan, Lorain, Lucas, Mahoning, Marion, Medina, Monroe, Morgan, Morrow, Muskingum, Noble, Ottawa, Paulding, Portage, Putnam, Richland, Sandusky, Seneca, Stark, Summit, Trumbull, Tuscarawas, Union, Van Wert, Washington, Wayne, Williams, Wood, and Wyandot Counties.

Region 9. Cincinnati, Ohio. In Ohio, services Adams, Athens, Brown, Butler, Champaign, Clark, Clermont, Clinton, Darke, Fairfield, Fayette, Franklin, Gallia, Greene, Hamilton, Highland, Hocking, Jackson, Lawrence, Madison, Meigs, Mercer, Miami, Montgomery, Perry, Pickaway, Pike, Preble, Ross, Scioto, Shelby, Vinton, and Warren Counties; in Indiana, services Clark, Dearborn, and Floyd Counties; in West Virginia, services Boone, Cabell, Jackson, Kanawha, Lincoln, Logan, Mason, McDowell, Mingo, Putnam, Roane, and Wayne Counties; and in Kentucky, services Anderson, Bath, Bell, Boone, Bourbon, Boyd, Boyle, Bracken, Breathitt, Bullitt, Campbell, Carroll, Carter, Casey, Clark, Clay, Elliott, Estill, Fayette, Fleming, Floyd, Franklin, Gallatin, Garrard, Grant, Greenup, Hardin, Harlan, Harrison, Henry, Jackson, Jefferson, Jessamine, Johnson, Kenton, Knott, Knox, Larue, Laurel, Lawrence, Lee, Leslie, Letcher, Lewis, Lincoln, Madison, Magoffin, Marion, Martin, Mason, McCreary, Meade, Menifee, Mercer, Montgomery, Morgan, Nelson, Nicholas, Oldham, Owen, Owsley, Pendleton, Perry, Pike, Powell, Pulaski, Robertson, Rockcastle, Rowan, Scott, Shelby, Spencer, Taylor, Trimble, Washington, Whitley, Wolfe, and Woodford Counties.

Region 10. Atlanta, Georgia. In Georgia, services Baker, Baldwin, Banks, Barrow, Bartow, Ben Hill, Berrien, Bibb, Bleckley, Bryan, Bulloch, Burke, Butts, Calhoun, Candler, Carroll, Catoosa, Chatham, Chattahoochee, Chattooga, Cherokee, Clarke, Clay, Clayton, Cobb, Colquitt, Columbia, Cook, Coweta, Crawford, Crisp, Dade, Dawson, DeKalb, Dodge, Dooly, Dougherty, Douglas, Early, Effingham, Elbert, Emanuel, Evans, Fannin, Fayette, Floyd, Forsyth, Franklin, Fulton, Gilmer, Glascock, Gordon, Greene, Gwinnett, Habersham, Hall, Hancock, Haralson, Harris, Hart, Heard, Henry, Houston, Irwin, Jackson, Jasper, Jefferson, Jenkins, Johnson, Jones, Lamar, Laurens, Lee, Liberty, Lincoln, Long, Lumpkin, Macon, Madison, Marion, McDuffie, McIntosh, Meriwether, Miller, Mitchell, Monroe, Montgomery, Morgan, Murray, Muscogee, Newton, Oconee, Oglethorpe, Paulding, Peach, Pickens, Pike, Polk, Pulaski, Putnam, Quitman, Rabun, Randolph, Richmond, Rockdale, Schley, Screven, Spalding, Stephens, Stewart, Sumter, Talbot, Taliaferro, Tattnall, Taylor, Telfair, Terrell, Tift, Toombs, Towns, Treutlen, Troup, Turner, Twiggs, Union, Upson, Walker, Walton, Warren, Washington, Webster, Wheeler, White, Whitfield, Wilcox, Wilkes, Wilkinson, and Worth Counties; in Tennessee, services Anderson, Bedford, Benton, Bledsoe, Blount, Bradley, Campbell, Cannon, Carter, Cheatham, Claiborne, Clay, Cocke, Coffee, Cumberland, Davidson, DeKalb, Dickson, Fentress, Franklin, Giles, Grainger, Greene, Grundy, Hamblen, Hamilton, Hancock, Hawkins, Henry, Hickman, Houston, Humphreys, Jackson, Jefferson, Johnson, Lawrence, Lewis, Lincoln, Loudon, Macon, Marion, Marshall, Maury, McMinn, Meigs, Monroe, Montgomery, Moore, Morgan, Overton, Perry, Pickett, Polk, Putnam, Rhea, Roane, Robertson, Rutherford, Scott, Sequatchie, Sevier, Smith, Stewart, Sullivan, Sumner, Trousdale, Unicoi, Union, Van Buren, Warren, Washington, Wayne, White, Williamson, and Wilson Counties; in Alabama, services Autauga, Bibb, Blount, Calhoun, Chambers, Cherokee, Chilton, Clay, Cleburne, Colbert, Coosa, Cullman, DeKalb, Elmore, Etowah, Fayette, Franklin, Greene, Hale, Jackson, Jefferson, Lamar, Lauderdale, Lawrence, Lee, Limestone, Madison, Marion, Marshall, Morgan, Perry, Pickens, Randolph, St. Clair, Shelby, Sumter, Talladega, Tallapoosa, Tuscaloosa, Walker, and Winston Counties; and in Kentucky, services Adair, Allen, Ballard, Barren, Breckinridge, Butler, Caldwell, Calloway, Carlisle, Christian, Clinton, Crittenden, Cumberland, Edmondson, Fulton, Graves, Grayson, Green, Hancock, Hart, Hickman, Hopkins, Livingston, Logan, Lyon, Marshall, McCracken, McLean, Metcalfe, Monroe, Muhlenberg, Ohio, Russell, Simpson, Todd, Trigg, Union, Warren, Wayne, and Webster Counties.

Subregion 11. Winston-Salem, North Carolina. Services North Carolina and South Carolina; in Virginia, services Alleghany, Amherst, Appomattox, Bath, Bedford, Bland, Botetourt, Buchanan, Campbell, Carroll, Charlotte, Craig, Dickenson, Floyd, Franklin, Giles, Grayson, Halifax, Henry, Lee, Mecklenburg, Montgomery, Patrick, Pittsylvania, Pulaski, Roanoke, Rockbridge, Russell, Scott, Smyth, Tazewell, Washington, Wise, and Wythe Counties, and the independently incorporated Virginia cities not part of, but located within or adjacent to, the territory by these Virginia counties; and in West Virginia, services Greenbriar, Mercer, Monroe, and Summers Counties. Persons may also obtain service at the Resident Offices in Birmingham, Alabama and Nashville, Tennessee.

Region 12. Tampa, Florida. In Florida, services Alachua, Baker, Bradford, Brevard, Broward, Charlotte, Citrus, Clay, Collier, Columbia, DeSoto, Dixie, Duval, Flagler, Gadsden, Gilchrist, Glades, Hamilton, Hardee, Hendry, Hernando, Highlands, Hillsborough, Indian River, Jefferson, Lafayette, Lake, Lee, Leon, Levy, Madison, Manatee, Marion, Martin, Miami-Dade, Monroe, Nassau, Okeechobee, Orange, Osceola, Palm Beach, Pasco, Pinellas, Polk, Putnam, St. Johns, St. Lucie, Sarasota, Seminole, Sumter, Suwannee, Taylor, Union, Volusia, and Wakulla Counties; and in Georgia, services Appling, Atkinson, Bacon, Brantley, Brooks, Camden, Charlton, Clinch, Coffee, Decatur, Echols, Glynn, Grady, Jeff Davis, Lanier, Lowndes, Pierce, Seminole, Thomas, Ware, and Wayne Counties.

Subregion 24. Hato Rey, Puerto Rico. Services Puerto Rico and the U.S. Virgin Islands. Persons may also obtain service at the Resident Office in Miami, Florida.

Region 13. Chicago, Illinois. Services Cook, DuPage, Kane, Lake, and Will Counties in Illinois, and Lake County in Indiana.

Region 14. St. Louis, Missouri. In Illinois services Adams, Alexander, Bond, Brown, Calhoun, Christian, Clark, Clay, Clinton, Coles, Crawford, Cumberland, Edgar, Edwards, Effingham, Fayette, Franklin, Gallatin, Greene, Hamilton, Hardin, Jackson, Jasper, Jefferson, Jersey, Johnson, Lawrence, Macoupin, Madison, Marion, Massac, Monroe, Montgomery, Perry, Pike, Pope, Pulaski, Randolph, Richland, St. Clair, Saline, Scott, Shelby, Union, Wabash, Washington, Wayne, White, and Williamson Counties; and in Missouri, services Audrain, Bollinger, Butler, Callaway, Cape Girardeau, Carter, Clark, Crawford, Dent, Franklin, Gasconade, Iron, Jefferson, Knox, Lewis, Madison, Maries, Marion, Monroe, Montgomery, Oregon, Osage, Perry, Phelps, Pike, Ralls, Reynolds, Ripley, St. Charles, St. Clair, St. Francois, St. Louis, St. Genevieve, Scotland, Scott, Shannon, Shelby, Stoddard, Washington, and Wayne Counties, and the Independent City of St. Louis.

Subregion 17. Kansas City, Kansas. Services Oklahoma and Kansas; in Missouri, services Adair, Andrew, Atchison, Barry, Barton, Bates, Benton, Boone, Buchanan, Caldwell, Camden, Carroll, Cass, Cedar, Chariton, Christian, Clay, Clinton, Cole, Cooper, Dade, Dallas, Daviess, DeKalb, Douglas, Gentry, Greene, Grundy, Harrison, Henry, Hickory, Holt, Howard, Howell, Jackson, Jasper, Johnson, Laclede, Lafayette, Lawrence, Lincoln, Linn, Livingston, Macon, McDonald, Mercer, Miller, Moniteau, Morgan, Newton, Nodaway, Ozark, Pettis, Platte, Polk, Pulaski, Putnam, Randolph, Ray, Saline, Schuyler, Stone, Sullivan, Taney, Texas, Vernon, Warren, Webster, Worth, and Wright Counties; in Iowa, services Fremont, Mills and Pottawattamie Counties; and in Nebraska, services Adams, Antelope, Arthur, Blaine, Boone, Boyd, Brown, Buffalo, Burt, Butler, Cass, Cedar, Chase, Cherry, Clay, Colfax, Cuming, Custer, Dakota, Dawson, Dixon, Dodge, Douglas, Dundy, Fillmore, Franklin, Frontier, Furnas, Gage, Garfield, Gosper, Grant, Greeley, Hall, Hamilton, Harlan, Hayes, Hitchcock, Holt, Hooker, Howard, Jefferson, Johnson, Kearney, Keith, Keya Paha, Knox, Lancaster, Lincoln, Logan, Loup, Madison, McPherson, Merrick, Morrill, Nance, Nemaha, Nuckolls, Otoe, Pawnee, Perkins, Phelps, Pierce, Platte, Polk, Red Willow, Richardson, Rock, Saline, Sarpy, Saunders, Seward, Sherman, Stanton, Thayer, Thomas, Thurston, Valley, Washington, Wayne, Webster, Wheeler, and York Counties. Persons may also obtain service at the Resident Office in Tulsa, Oklahoma.

Region 15. New Orleans, Louisiana. Services Louisiana; in Alabama, services Baldwin, Barbour, Bullock, Butler, Choctaw, Clarke, Coffee, Conecuh, Covington, Crenshaw, Dale, Dallas, Escambia, Geneva, Henry, Houston, Lowndes, Macon, Marengo, Mobile, Monroe, Montgomery, Pike, Russell, Washington, and Wilcox Counties; in Arkansas, services all counties except Miller; in Florida, services Bay, Calhoun, Escambia, Franklin, Gulf, Holmes, Jackson, Liberty, Okaloosa, Santa Rosa, Walton, and Washington Counties; in Mississippi, services Adams, Amite, Claiborne, Clarke, Copiah, Covington, Forrest, Franklin, George, Greene, Hancock, Harrison, Hinds, Issaquena, Jackson, Jasper, Jefferson, Jefferson Davis, Jones, Kemper, Lamar, Lauderdale, Lawrence, Leake, Lincoln, Madison, Marion, Neshoba, Newton, Pearl River, Perry, Pike, Rankin, Scott, Sharkey, Simpson, Smith, Stone, Walthall, Warren, Wayne, Wilkinson, and Yazoo Counties in; and in Missouri, services Dunklin, Mississippi, New Madrid, and Pemiscot Counties;

Subregion 26. Memphis, Tennessee. In Tennessee, services Carroll, Chester, Crockett, Decatur, Dyer, Fayette, Gibson, Hardeman, Hardin, Haywood, Henderson, Lake, Lauderdale, McNairy, Madison, Obion, Shelby, Tipton, and Weakley Counties; in Mississippi, services Alcorn, Attala, Benton, Bolivar, Calhoun, Carroll, Chickasaw, Choctaw, Clay, Coahoma, Desoto, Grenada, Holmes, Humphreys, Itawamba, Lafayette, Lee, Leflore, Lowndes, Marshall, Monroe, Montgomery, Noxubee, Oktibbeha, Panola, Pontotoc, Prentiss, Quitman, Sunflower, Tallahatchie, Tate, Tippah, Tishomingo, Tunica, Union, Washington, Webster, Winston, and Yalobusha Counties; and in Arkansas, services Clay, Craighead, Crittenden, Cross, Greene, Lee, Mississippi, Poinsett, and St. Francis Counties. Persons may also obtain service at the Resident Office in Little Rock, Arkansas.

Region 16. Fort Worth, Texas. Services Texas with the exception of Culberson, El Paso, and Hudspeth Counties; in Arkansas, services Miller County. Persons may also obtain service at the Resident Offices located in Houston and San Antonio, Texas.

Region 18. Minneapolis, Minnesota. Services North Dakota, South Dakota, and Minnesota; in Iowa, services Adair, Adams, Allamakee, Appanoose, Audubon, Benton, Black Hawk, Boone, Bremer, Buchanan, Buena Vista, Butler, Calhoun, Carroll, Cass, Cedar, Cerro Gordo, Cherokee, Chickasaw, Clarke, Clay, Clayton, Crawford, Dallas, Davis, Decatur, Delaware, Dickinson, Emmet, Fayette, Floyd, Franklin, Greene, Grundy, Guthrie, Hamilton, Hancock, Hardin, Harrison, Henry, Howard, Humboldt, Ida, Iowa, Jasper, Jefferson, Johnson, Jones, Keokuk, Kossuth, Linn, Lucas, Lyon, Madison, Mahaska, Marion, Marshall, Mitchell, Monona, Monroe, Montgomery, O'Brien, Osceola, Page, Palo Alto, Plymouth, Pocahontas, Polk, Poweshiek, Ringgold, Sac, Shelby, Sioux, Story, Tama, Taylor, Union, Van Buren, Wapello, Warren, Washington, Wayne, Webster, Winnebago, Winneshiek, Woodbury, Worth, and Wright Counties; and in Wisconsin, services Ashland, Barron, Bayfield, Buffalo, Burnett, Chippewa, Clark, Douglas, Dunn, Eau Claire, Iron, Jackson, Pepin, Pierce, Polk, Price, Rusk, St. Croix, Sawyer, Taylor, Trempealeau, and Washburn Counties.

Subregion 30. Milwaukee, Wisconsin. In Wisconsin, services Adams, Brown, Calumet, Columbia, Crawford, Dane, Dodge, Door, Florence, Fond du Lac, Forest, Grant, Green, Green Lake, Iowa, Jefferson, Juneau, Kenosha, Kewaunee, La Crosse, Lafayette, Langlade, Lincoln, Manitowoc, Marathon, Marinette, Marquette, Menominee, Milwaukee, Monroe, Oconto, Oneida, Outagamie, Ozaukee, Portage, Racine, Richland, Rock, Sauk, Shawano, Sheboygan, Vernon, Vilas, Walworth, Washington, Waukesha, Waupaca, Waushara, Winnebago, and Wood Counties; and in Michigan, services Alger, Baraga, Delta, Dickinson, Gogebic, Houghton, Iron, Keweenaw, Marquette, Menominee, and Ontonagon Counties.

Region 19. Seattle, Washington. Services Alaska and all counties in Washington except Clark; in Idaho, services Adams, Benewah, Bonner, Boundary, Clark, Clearwater, Custer, Fremont, Idaho, Kootenai, Latah, Lemhi, Lewis, Nez Perce, and Valley Counties; and in Montana, services Beaverhead, Broadwater, Cascade, Deer Lodge, Flathead, Gallatin, Glacier, Granite, Jefferson, Lake, Lewis and Clark, Liberty, Lincoln, Madison, Meagher, Mineral, Missoula, Pondera, Powell, Ravalli, Sanders, Silver Bow, Teton, and Toole Counties.

Subregion 36. Portland, Oregon. Services Oregon and Clark County in Washington. Persons may also obtain service at the Resident Office located in Anchorage, Alaska.

Region 20. San Francisco, California. In California, services Butte, Colusa, Del Norte, Glenn, Humboldt, Lake, Lassen, Marin, Mendocino, Modoc, Napa, Nevada, Placer, Plumas, Sacramento, San Francisco, San Mateo, Shasta, Sierra, Siskiyou, Solano, Sonoma, Sutter, Tehama, Trinity, Yolo, and Yuba Counties.

Subregion 37. Honolulu, Hawaii. Services Hawaii, American Samoa, Guam, Palau, and the Commonwealth of the Northern Mariana Islands.

Region 21. Los Angeles, California. In California, services Imperial, Orange, Riverside, and San Diego Counties and that portion of Los Angeles County lying east of Harbor Freeway and South Gaffey Street, south and east of Pasadena Freeway and Arroyo Parkway, and south of Foothill Freeway (Interstate 210). Persons may also obtain service at the Resident Office located in San Diego, California.

Region 22. Newark, New Jersey. In New Jersey, services Bergen, Essex, Hudson, Hunterdon, Mercer, Middlesex, Monmouth, Morris, Passaic, Somerset, Sussex, Union and Warren Counties.

Region 25. Indianapolis, Indiana. Services Indiana, with the exception of Clark, Dearborn, Floyd, and Lake Counties; and in Kentucky, services Daviess and Henderson Counties.

Subregion 33. Peoria, Illinois. In Illinois, services Boone, Bureau, Carroll, Cass, Champaign, DeKalb, DeWitt, Douglas, Ford, Fulton, Grundy, Hancock, Henderson, Henry, Iroquois, Jo Daviess, Kankakee, Kendall, Knox, La Salle, Lee, Livingston, Logan, Macon, Marshall, Mason, McDonough, McHenry, McLean, Menard, Mercer, Morgan, Moultrie, Ogle, Peoria, Piatt, Putnam, Rock Island, Sangamon, Schuyler, Stark, Stephenson, Tazewell, Vermilion, Warren, Whiteside, Winnebago, and Woodford Counties; and in Iowa, services Clinton, Des Moines, Dubuque, Jackson, Lee, Louisa, Muscatine, and Scott Counties.

Region 27. Denver, Colorado. Services Wyoming, Colorado, and Utah; in Nebraska, services Banner, Box Butte, Cheyenne, Dawes, Deuel, Garden, Kimball, Scotts Bluff, Sheridan, and Sioux Counties; in Idaho, services Ada, Bannock, Bear Lake, Bingham, Blaine, Boise, Bonneville, Butte, Camas, Canyon, Caribou, Cassia, Elmore, Franklin, Gem, Gooding, Jefferson, Jerome, Lincoln, Madison, Minidoka, Oneida, Owyhee, Payette, Power, Shoshone, Teton, Twin Falls, and Washington Counties; and in Montana, services Big Horn, Blaine, Carbon, Carter, Chouteau, Custer, Daniels, Dawson, Fallon, Fergus, Garfield, Golden Valley, Hill, Judith Basin, McCone, Musselshell, Park, Petroleum, Phillips, Powder River, Prairie, Richland, Roosevelt, Rosebud, Sheridan, Stillwater, Sweet Grass, Treasure, Valley, Wheatland, Wilbaux, and Yellowstone Counties.

Region 28. Phoenix, Arizona. Services Arizona and New Mexico; in Nevada, services Carson City, Clark, Lincoln, and Nye Counties; in Texas services Culberson, El Paso, and Hudspeth Counties. Persons may also obtain service at the Resident Offices in Albuquerque, New Mexico and in Las Vegas, Nevada.

Region 29. Brooklyn, New York. In New York, services the boroughs of Brooklyn, Queens, and Staten Island in New York City; and Kings, Nassau, Queens, Richmond, and Suffolk Counties.

Region 31. Los Angeles, California. In California, services Inyo, Kern, San Bernardino, San Luis Obispo, Santa Barbara, and Ventura Counties and that portion of Los Angeles County lying west of Harbor Freeway and South Gaffey Street, north and west of Pasadena Freeway and Arroyo Parkway, and north of Foothill Freeway (Interstate 210).

Region 32. Oakland, California. In California, services Alameda, Alpine, Amador, Calaveras, Contra Costa, El Dorado, Fresno, Kings, Madera, Mariposa, Merced, Mono, Monterey, San Benito, San Joaquin, Santa Clara, Santa Cruz, Stanislaus, Tulare, and Tuolumne Counties; and in Nevada, services Churchill, Douglas, Elko, Esmeralda, Eureka, Humboldt, Lander, Lyon, Mineral, Pershing, Storey, Washoe, and White Pine Counties, as well as the Consolidated Municipality of Carson City.

(Authority: 5 U.S.C. 552).

Dated: October 21, 2015.
By direction of the Board.
William B. Cowen,
Solicitor, National Labor Relations Board.

[FR Doc. 2015-27392 Filed 10-27-15; 8:45 am]

BILLING CODE 7545-01-P